ENVIRONMENTAL PROTECTION AGENCY

[ER-FRL-6663-3]

Environmental Impacts Statements; Notice of Availability

Responsible Agency: Office of Federal Activities, General Information (202) 564-7167 or http://www.epa.gov/compliance/nepa/. Weekly receipt of Environmental Impact Statements Filed 05/02/2005 Through 05/06/2005 Pursuant to 40 CFR 1506.9.

EIS No. 20050185, Final EIS, NRC, MI, Generic—Donald C. Cook Nuclear Plant, Units No. 1 and 2, (TAC No. MC1221 and MC1222) License Renewal, Supplement 20 to NUREG 1437, Berrien County, MI, Wait Period Ends: 06/13/2005, Contact: William Dam, 301-415-4014.

EIS No. 20050186, Draft EIS, AFS, NY, Finger Lakes National Forest Project, Proposed Land and Resource Management Plan, Forest Plan Revision, Implementation, Seneca and Schuyler Counties, NY, Comment Period Ends: 08/15/2005, Contact: Jay Strand 802-767-4261. Ext 522.

EIS No. 20050187, Draft EIS, SFW, MN, Upper Mississippi National Wildlife and Fish Refuge Comprehensive Conservation Plan (CCP) Implementation, MN, WI, IL and IA, Comment Period Ends: 08/31/2005, Contact: Don Hultman 507-452-4232.

This document is available on the Internet at: http://www.fws.gov/midwest/planning/uppermiss/

EIS No. 20050188, Final EIS, FTA, 00, Permanent World Trade Center (WTC) PATH Terminal Project, Reconstruction of a Permanent Terminal at the WTC Site in Lower Manhattan, Port Authority Trans-Hudson (PATH), Several Permits Required for Approval, The Port Authority of New York and New Jersey, NY and NJ, Wait Period Ends: 06/13/2005, Contact: Bernard Cohen 212-668-1770.

EIS No. 20050189, Draft EIS, COE, PA, The Town of Bloomsburg, Columbia County, Pennsylvania Flood Damage Reduction Project, Implementation, Integrated Feasibility Report, Susquhanna River and Fishing Creek, Town of Bloomsburg, Columbia County, PA, Comment Period Ends: 06/27/2005, Contact: Jeff Trulick 410-962-6715.

EIS No. 20050190, Draft EIS, FHA, MI, Detroit Intermodal Freight Terminal (DIFT) Project, Proposes Improvement to Intermodal Freight Terminals in Wayne and Oakland Counties, MI, Comment Period Ends: , 08/16/2005, Contact: Abdelmoez Abdalla 517-702-1820.

Amended Notices

EIS No. 20050105, Draft EIS, AFS, MI, Huron-Manistee National Forests, Proposed Land and Resource Management Plan, Implementation, Several Counties, MI, 06/20/2005, Contact: Jeff Pullen 231-775-2421 Revision of FR Notice Published on 03/18/2005: CEQ Comment Period Ending 06/16/2005 has been Extended to 06/20/2005.

EIS No. 20050118, Draft EIS, AFS, MI, Ottawa National Forest, Proposed Land and Resource Management Plan, Forest Plan Revision, Implementation, Baraga, Gogebic, Houghton, Iron, Marquette and Ontonagan Counties, MI, Comment Period Ends 06/27/2005, Contact: Robert Brenner 906-932-1330 Revision of FR Notice Published on 03/25/2005: CEQ Comment Period Ending on 06/23/2005 has been Extended to 06/27/2005.

EIS No. 20050153, Final EIS, FHW, UT, Southern Corridor Construction, I-15 at Reference Post 2 in St. George to UT-9 near Hurricane, Funding, Right-of-Way Grant and U.S. Army COE Section 404 Permit Issuance, St. George, Washington and Hurricane, Washington County, UT, 06/22/2005, Wait Period Ends: 06/22/2005, Contact: Gregory Punske 801-963-0182.

Revision of FR Notice Published on 04/22/2005: CEQ Comment Period Ending 05/23/2005 has been Extended to 05/22/2005.

Dated: May 10, 2005.
Robert W. Hargrove,
Director, NEPA Compliance Division, Office of Federal Activities.

[FR Doc. 05-9587 Filed 5-12-05; 8:45 am]

BILLING CODE 6560-50-P